DEPARTMENT OF COMMERCE

National Oceanic and Atmospheric Administration

RIN 0648-XG622

Gulf of Mexico Fishery Management Council; Public Meetings

AGENCY: National Marine Fisheries Service (NMFS), National Oceanic and Atmospheric Administration (NOAA), Commerce.

ACTION: Notice; public hearings and webinar.

SUMMARY: The Gulf of Mexico Fishery Management Council (Council) will hold ten in-person public hearings and a webinar public hearing to solicit public comments on Draft Amendment 50—State Management of Recreational Red Snapper.

DATES: The public hearings will take place December 3, 2018-January 17, 2019. The meetings and webinar will begin at 6 p.m. and will conclude no later than 9 p.m. For specific dates and times, see SUPPLEMENTARY INFORMATION. Written public comments must be received on or before 5 p.m. EST on Tuesday, January 22, 2019.

ADDRESSES: The public documents can be obtained by contacting the Gulf of Mexico Fishery Management Council, 4107 West Spruce Street, Suite 200, Tampa, FL 33607; (813) 348-1630 or on their website at www.gulfcouncil.org.

Meeting addresses: The public hearings will be held in Pensacola, Destin, Ft. Myers, and St. Petersburg, FL; Mobile, AL; Baton Rouge, LA; Biloxi, MS; and Brownsville, Corpus Christi, and League City, TX. For specific locations, see SUPPLEMENTARY INFORMATION.

Public comments: Comments may be submitted online through the Council's public portal by visiting www.gulfcouncil.org and clicking on “CONTACT US”.

FOR FURTHER INFORMATION CONTACT: Dr. Ava Lasseter, Anthropologist; ava.lasseter@gulfcouncil.org, Gulf of Mexico Fishery Management Council; telephone: (813) 348-1630.

SUPPLEMENTARY INFORMATION: The agenda for the following ten in-person hearings and one webinar are as follows: Council staff will brief the public on the purpose and need of the amendment. The Council is currently considering state management that would provide flexibility to the Gulf states to set the recreational red snapper fishing season and potentially other management measures. Council staff will also provide an overview of the actions and alternatives considered in the amendment including the Council's preferred alternatives.

Staff and a State Representative Council member will be available to answer any questions, and the public will have the opportunity to provide testimony on the amendment and other related testimony.

The schedule is as follows:

Locations

Monday, December 3, 2018; Sanders Beach-Corrine Jones Center, 913 South I Street, Pensacola, FL 35202; telephone: (850) 436-5670.

Tuesday, December 4, 2018; City of Destin Community Center, 101 Stahlman Ave., Destin, FL 32541; telephone: (850) 654-5184.

Wednesday, December 5, 2018; Renaissance Mobile Riverview Plaza Hotel, 64 South Water Street, Mobile, AL 36602; telephone: (251) 438-4000.

Monday, December 10, 2018; Embassy Suites, 4914 Constitution Avenue, Baton Rouge, LA 70808; telephone: (225) 228-7164.

Tuesday December 11, 2018; Imperial Palace (IP) Casino and Resort, 850 Bayview Avenue, Biloxi, MS 39530; telephone: (228) 436-3000.

Monday, January 7, 2019; Hyatt Place Fort Myers at the Forum; 2600 Champion Ring Road, Ft. Myers, FL 33905; telephone: (239) 418-1844.

Tuesday, January 8, 2019; Hilton St. Petersburg Carillon Park, 950 Lake Carillon Drive, St. Petersburg, FL 33716; telephone: (727) 540-0050.

Monday, January 14, 2019; Courtyard by Marriott Brownsville, 3955 N Expressway, Brownsville, TX 78520; telephone: (956) 350-4600.

Tuesday, January 15, 2019; Omni Hotels Corpus Christi, 900 North Shoreline Blvd., Corpus Christi, TX 78401; telephone: (361) 887-1600.

Wednesday, January 16, 2019; League City Civic Center and Recreation Center, 300 West Walker St., League City, TX 77573; telephone: (281) 554-1190.

Thursday, January 17, 2019, Webinar—6 p.m. EST at: https://attendee.gotowebinar.com/register/2288573373994739724. After registering, you will receive a confirmation email containing information about joining the webinar.

Special Accommodations

These meetings are physically accessible to people with disabilities. Requests for sign language interpretation or other auxiliary aids should be directed to Kathy Pereira (see ADDRESSES), at least 5 working days prior to the meeting date.

Authority: 16 U.S.C. 1801 et seq.

Dated: November 13, 2018.
Tracey L. Thompson,
Acting Deputy Director, Office of Sustainable Fisheries, National Marine Fisheries Service.

[FR Doc. 2018-25055 Filed 11-15-18; 8:45 am]

BILLING CODE 3510-22-P